Proclamation 10135 of January 15, 2021

Martin Luther King, Jr., Federal Holiday, 2021

By the President of the United States of America

A Proclamation

On August 28, 1963, just a century after the Emancipation Proclamation, the Reverend Dr. Martin Luther King, Jr. led more than 200,000 Americans in a March on Washington in pursuit of jobs and freedom for all people. Standing on the steps of the Lincoln Memorial, he called on Americans “to sit down together at the table of brotherhood” and meet our promise of life, liberty, and the pursuit of happiness for all. On that historic day, and throughout his life, Dr. King exemplified the quintessential American belief that we will leave a brighter, more prosperous future for our children. Today, we honor and celebrate Dr. King, a giant of the civil rights movement whose nonviolent resistance to the injustices of his era—racial segregation, employment discrimination, and the denial of the right to vote—enlightened our Nation and the world.

In the face of tumult and upheaval, Dr. King reminded us to always meet anger with compassion in order to truly “heal the hurts, right the wrongs and change society.” It is with this same spirit of forgiveness that we come together to bind the wounds of past injustice by lifting up one another regardless of race, gender, creed, or religion, and rising to the first principles enshrined in our founding documents. Indeed, Dr. King described our Constitution and Declaration of Independence as promissory notes left by our Founding Fathers for “every American to fall heir.” His dream, rooted in the American Dream, was that our children might be “judged not by the color of their skin, but by the content of their character.” This dream, he hoped, would finally let freedom ring for all people.

As Dr. King stated in 1961, at the heart of his dream is “equality of opportunity.” For Dr. King, the march toward civil rights is intertwined with economic empowerment. My Administration has fully embraced this spirit, taking historic action to create jobs and uplift every community across our country and reaching the lowest unemployment rate for Black Americans ever recorded. Through the Tax Cuts and Jobs Act of 2017, we created nearly 9,000 Opportunity Zones that have produced more than $75 billion in new investment in distressed neighborhoods. My Administration has supported our Nation's incredible Historically Black Colleges and Universities (HBCUs) in several ways, including by establishing the President's Board of Advisors on HBCUs, reauthorizing more than $85 million in funding for them through the FUTURE Act, and allocating $930 million in higher education emergency relief through the CARES Act. As President, I have fully committed to the educational and economic empowerment of minority communities and young people across our Nation—and the progress we have made must continue into the future.

It is clear now more than ever before that we can no longer allow the American Dream to be deferred for Black Americans. However, in this march toward equality, we cannot permit any “creative protest to degenerate into physical violence.” As a student of nonviolence, Dr. King called on us not to “satisfy the thirst for freedom by drinking from the cup of bitterness and hatred.” In the national effort to achieve freedom and equality, and in this shared love of country, we must endeavor with all our might to meet the promissory notes endowed to us by our Founding Fathers, as Dr. King fervently wished.

With the same dream, faith, and hope championed by the Reverend Dr. Martin Luther King, Jr., we recommit to upholding his legacy and meeting our sacred obligation to protect the unalienable rights of all Americans.

NOW, THEREFORE, I, DONALD J. TRUMP, President of the United States of America, by virtue of the authority vested in me by the Constitution and the laws of the United States, do hereby proclaim January 18, 2021, as the Martin Luther King, Jr., Federal Holiday. On this day, I encourage all Americans to recommit themselves to Dr. King's dream by engaging in acts of service to others, to their community, and to our Nation.

IN WITNESS WHEREOF, I have hereunto set my hand this fifteenth day of January, in the year of our Lord two thousand twenty-one, and of the Independence of the United States of America the two hundred and forty-fifth.

[FR Doc. 2021-01565

Filed 1-21-21; 8:45 am]

Billing code 3295-F1-P